DEPARTMENT OF THE INTERIOR

Fish and Wildlife Service

[FWS-R3-ES-2012-N101; FXHC113003000005B-123-FF03E00000]

Final Springfield Plateau Regional Restoration Plan and Environmental Assessment and Finding of No Significant Impact (FONSI)

AGENCY: Fish and Wildlife Service, Interior.

ACTION: Notice of availability.

SUMMARY: This notice advises the public and other agencies of the availability of the Final Springfield Plateau Regional Restoration Plan (Plan) and Environmental Assessment and Finding of No Significant Impact (FONSI). The U.S. Department of the Interior (DOI), acting through the U.S. Fish and Wildlife Service (FWS), and the State of Missouri, acting through the Missouri Department of Natural Resources (MDNR), formally selected Alternative D of the Plan through signing of the FONSI. Alternative D provides for natural resource—based restoration using a tiered project selection process evaluating the feasibility of primary restoration, compensatory restoration, and acquisition of equivalent resources. Interested members of the public are invited to review the Plan.

ADDRESSES: The Plan can be viewed online at http://www.fws.gov/midwest/nrda/motristate/ or http://www.dnr.mo.gov/env/hwp/sfund/nrda.htm.

Alternatively, copies of the Plan can be requested from John Weber, Restoration Coordinator, U.S. Fish and Wildlife Service, 101 Park DeVille Dr., Suite A, Columbia, MO 65203, or Tim Rielly, Assessment and Restoration Manager, Missouri Department of Natural Resources, P.O. Box 176, Jefferson City, MO 65102-0176.

You may also submit requests for copies of the Plan by sending electronic mail (email) to: John_S_Weber@fws.gov or tim.rielly@dnr.mo.gov.

FOR FURTHER INFORMATION CONTACT: John Weber, (573) 234-2132 (x177), or Tim Rielly, (573) 526-3353.

SUPPLEMENTARY INFORMATION:

Background

The FWS and the MDNR (Trustees) are trustees for natural resources considered in this restoration plan, pursuant to subpart G of the National Oil and Hazardous Substances Pollution Contingency Plan (40 CFR 300.600 and 300.610) and Executive Order 12580. The Memorandum of Understanding Between the Missouri Department of Natural Resources and U.S. Department of the Interior establishes a Trustee Council charged with developing and implementing a restoration plan for ecological restoration in the Springfield Plateau of southwest Missouri.

The Trustees followed the NRDAR regulations found at 43 CFR part 11 for the development of the Plan. The objective of the NRDAR process is to compensate the public for losses to natural resources that have been injured by releases of hazardous substances into the environment. The Comprehensive Environmental Response, Compensation, and Liability Act (CERCLA, more commonly known as the Federal “Superfund” law) (42 U.S.C. 9601 et seq.) and the Federal Water Pollution Control Act (commonly known as the Clean Water Act (CWA)) (33 U.S.C. 1251 et seq.) authorize States, federally recognized tribes, and certain Federal agencies that have authority for natural resources “belonging to, managed by, controlled by or appertaining to [the public]” to act as “trustees” on behalf of the public, to restore, rehabilitate, replace, and/or acquire natural resources equivalent to those injured by releases of hazardous substances.

The Trustees have worked together to determine appropriate restoration activities to address natural resource injuries caused by the release of hazardous substances into the Springfield Plateau environment. The results of this administrative process are contained in a series of planning and decision documents that have been published for public review under CERCLA. On January 11, 2012, the FWS published in the Federal Register a notice of availability commencing a 45-day public comment period on the Draft Springfield Plateau Regional Restoration Plan and Environmental Assessment (77 FR 1717). The public comment period ended on February 27, 2012. Comments received during the public comment period were incorporated into our final document.

Current Notice of Availability

This current notice of availability informs the public that the Trustees have formally selected Alternative D of The Plan through the signing of a Finding of No Significant Impact (FONSI). The FONSI indicates that restoring, replacing and/or acquiring the equivalent of injured resources in the Springfield Plateau as described under Alternative D in the Final Springfield Plateau Regional Restoration Plan (Plan) and Environmental Assessment is not a major Federal action which would significantly affect the quality of the human environment within the meaning of Section 102(2)(c) of the National Environmental Policy Act of 1969.

Authority

This notice is provided pursuant to Natural Resource Damage Assessment and Restoration (NRDAR) regulations (43 CFR 11.81(d)(4)) and NEPA (National Environmental Policy Act) regulations (40 CFR 1506.6).

Dated: May 29, 2012.
Thomas O Melius,
Regional Director, Midwest Region, Bloomington, Minnesota.

[FR Doc. 2012-15184 Filed 6-20-12; 8:45 am]

BILLING CODE 4310-55-P